ENVIRONMENTAL PROTECTION AGENCY

40 CFR Part 52

[CO-001-0048b, CO-001-0049b, CO-001-0050b; FRL-7044-7]

Approval and Promulgation of Air Quality Implementation Plans; State of Colorado; Trip Reduction, and Reduction of Diesel Vehicle Emissions

AGENCY: Environmental Protection Agency (EPA).

ACTION: Proposed rule.

SUMMARY: EPA is proposing to take direct final action to approve a State Implementation Plan (SIP) revision submitted by the Governor of Colorado on May 20, 2000. These revisions incorporate changes to Colorado's Regulation 12, “Reduction of Diesel Vehicle Emissions,” and repeals Colorado's Regulation 9, “Trip Reduction.” EPA is taking this action under section 110 of the Clean Air Act (Act).

In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time.

DATES: Comments must be received in writing on or before October 11, 2001.

ADDRESSES: Written comments may be mailed to Richard R. Long, Director, Air and Radiation Program, Mailcode 8P-AR, Environmental Protection Agency, Region VIII, 999 18th Street, Suite 300, Denver, Colorado, 80202. Copies of the documents relevant to this action are available for public inspection during normal business hours at the Air and Radiation Program, Environmental Protection Agency, Region VIII, 999 18th Street, Suite 300, Denver, Colorado, 80202-2466. Copies of the State documents relevant to this action are available for public inspection at the Colorado Air Pollution Control Division, Colorado Department of Public Health and Environment, 4300 Cherry Creek Drive South, Denver, Colorado 80246-1530.

FOR FURTHER INFORMATION CONTACT: Kerri Fiedler, EPA Region VIII, (303) 312-6493.

SUPPLEMENTARY INFORMATION: See the information provided in the Direct Final action of the same title which is located in the Rules and Regulations section of this Federal Register.

Authority: 42 U.S.C. 7401 et seq.

Dated: July 10, 2001.
Kerrigan G. Clough,
Acting Regional Administrator, Region VIII.

[FR Doc. 01-22611 Filed 9-10-01; 8:45 am]

BILLING CODE 6560-50-P